DEPARTMENT OF ENERGY

Federal Energy Regulatory Commission

Combined Notice of Filings #1

Take notice that the Commission received the following electric rate filings:

Docket Numbers: ER05-1056-010.

Applicants: Bonneville Power Administration.

Description: Bonneville Power Administration submits tariff filing per 35.19a(b): Refund Report_Vistra Intermediate Company, LLC to be effective N/A.

Filed Date: 8/26/20.

Accession Number: 20200826-5150.

Comments Due: 5 p.m. ET 9/16/20.

Docket Numbers: ER20-2751-000.

Applicants: PPL Electric Utilities Corporation, PJM Interconnection, L.L.C.

Description: § 205(d) Rate Filing: PPL Electric submits CESF SA No. 5750 to be effective 8/31/2020.

Filed Date: 8/26/20.

Accession Number: 20200826-5141.

Comments Due: 5 p.m. ET 9/16/20.

Docket Numbers: ER20-2752-000.

Applicants: Southwest Power Pool, Inc.

Description: § 205(d) Rate Filing: 3618R1 Little Blue Wind Project, LLC GIA to be effective 7/29/2020.

Filed Date: 8/27/20.

Accession Number: 20200827-5067.

Comments Due: 5 p.m. ET 9/17/20.

Docket Numbers: ER20-2753-000.

Applicants: Southwest Power Pool, Inc.

Description: § 205(d) Rate Filing: 3435R1 Magnet Wind Farm GIA Cancellation to be effective 7/30/2020.

Filed Date: 8/27/20.

Accession Number: 20200827-5069.

Comments Due: 5 p.m. ET 9/17/20.

Docket Numbers: ER20-2754-000.

Applicants: AEP Texas Inc.

Description: § 205(d) Rate Filing: AEPTX-Sparta Solar Generation Interconnection Agreement to be effective 8/14/2020.

Filed Date: 8/27/20.

Accession Number: 20200827-5082.

Comments Due: 5 p.m. ET 9/17/20.

Docket Numbers: ER20-2755-000.

Applicants: Caithness Long Island, LLC.

Description: Compliance Filing: New eTariff Baseline Filing to be effective 7/1/2020.

Filed Date: 8/27/20.

Accession Number: 20200827-5124.

Comments Due: 5 p.m. ET 9/17/20.

Docket Numbers: ER20-2756-000.

Applicants: Arizona Public Service Company.

Description: § 205(d) Rate Filing: Rate Schedule No. 302—PNM Pseudo-Tie Agreement to be effective 10/27/2020.

Filed Date: 8/27/20.

Accession Number: 20200827-5146.

Comments Due: 5 p.m. ET 9/17/20.

Docket Numbers: ER20-2757-000.

Applicants: PacifiCorp.

Description: § 205(d) Rate Filing: UMPA TSOA Rev 5 to be effective 10/26/2020.

Filed Date: 8/27/20.

Accession Number: 20200827-5182.

Comments Due: 5 p.m. ET 9/17/20.

Docket Numbers: ER20-2758-000.

Applicants: Public Service Company of New Mexico.

Description: § 205(d) Rate Filing: PIA with Pattern and Duran Mesa to be effective 10/26/2020.

Filed Date: 8/27/20.

Accession Number: 20200827-5183.

Comments Due: 5 p.m. ET 9/17/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 27, 2020.
Nathaniel J. Davis, Sr.,
Deputy Secretary.

[FR Doc. 2020-19375 Filed 9-1-20; 8:45 am]

BILLING CODE 6717-01-P